DEPARTMENT OF THE INTERIOR

Bureau of Indian Affairs

[201A2100DD/AAKC001030/A0A501010.999900 253G]

Advisory Board of Exceptional Children

AGENCY: Bureau of Indian Affairs, Interior.

ACTION: Notice of meeting.

SUMMARY: The Bureau of Indian Education (BIE) is announcing an upcoming meeting of the Advisory Board for Exceptional Children. The purpose of the meeting is to meet the mandates of the Individuals with Disabilities Education Act of 2004 (IDEA) for Indian children with disabilities. Due to the COVID-19 pandemic and for the safety of all individuals, the meeting will be conducted online.

DATES: The BIE Advisory Board meeting will start Wednesday, August 19, 2020 from 8 a.m. to 3:30 p.m. Pacific Daylight Time (PDT). The second day will start on Thursday, August 20, 2020 from 8 a.m. to 3:30 p.m. PDT. Public comment periods will be held on both days.

ADDRESSES: All Advisory Board activities and meetings will be conducted online. See the SUPPLEMENTARY INFORMATION section of this notice for directions to join online.

FOR FURTHER INFORMATION CONTACT: Jennifer Davis, Designated Federal Officer (DFO), Bureau of Indian Education, 2600 N Central Ave., Suite 800, Phoenix, Arizona 85004, email at Jennifer.davis@indianaffairs.gov or telephone numbers (202) 860-7845 or (602) 240-8597.

SUPPLEMENTARY INFORMATION: In accordance with the Federal Advisory Committee Act, the BIE is announcing that the Advisory Board will hold its next meeting online. The Advisory Board was established under the Individuals with Disabilities Act of 2004 (20 U.S.C. 1400 et seq.) to advise the Secretary of the Interior, through the Assistant Secretary-Indian Affairs, on the needs of Indian children with disabilities. The meeting is open to the public.

The following items will be on the agenda:

• Update Reports Regarding Special Education from: BIE Central Office, BIE/Division of Performance and Accountability (DPA), BIE/Special Education Program, BIE/Associate Deputy Directors for Tribally Controlled Schools, Bureau Operated Schools and Navajo Schools.

• Work on 2020 Annual Report.

• Public Comments (via teleconference call, Wednesday, August 19, 2020 and Thursday, August 20, 2020).

During the August 19, 2020 meeting, time has been set aside for public comments via webinar or telephone conference call from 1:15 p.m. to 1:45 p.m. Pacific Daylight Time; You can join by using your computer, tablet or smartphone using https://global.gotomeeting.com/join/516506149, or you can dial in using your phone, United States: +1 (669) 224-3412 and Access Code: 516-506-149; or you can join from a video-conferencing room or system by dialing in or type 67.217.95.2 or inroomlink.goto.com, Meeting ID: 516 506 149. Or dial directly: 516506149@67.217.95.2 or 67.217.95.2##516506149.

During the August 20, 2020 meeting, time has been set aside for public comments via webinar or telephone conference call from 10:20 a.m. to 10:50 a.m. Pacific Daylight Time. You can join by using your computer, tablet or smartphone using https://global.gotomeeting.com/join/732100405, or you can dial in using your phone, United States: +1 (646) 749-3122 and Access Code: 732-100-405; or you can join from a video-conferencing room or system by dialing in or type: 67.217.95.2 or inroomlink.goto.com, Meeting ID: 732 100 405. Or dial directly: 732100405@67.217.95.2 or 67.217.95.2##732100405.

Public comments can also be emailed to the DFO at Jennifer.davis@indianaffairs.gov; or faxed to (602) 265-0293 Attention: Jennifer Davis, DFO; or mailed or hand delivered to the Bureau of Indian Education, Attention: Jennifer Davis, DFO, 2600 N Central Ave., Suite 800, Phoenix, Arizona 85004.

Before including your address, phone number, email address, or other personal identifying information in your comment, you should be aware that your entire comment—including your personal identifying information—may be made publicly available at any time. While you can ask us in your comment to withhold your personal identifying information from public review, we cannot guarantee that we will be able to do so.

Directions for Joining Online

You can join the first meeting from your computer, tablet, or smartphone using https://global.gotomeeting.com/join/516506149, or you can dial in using your phone, United States: +1 (669) 224-3412 and Access Code: 516-506-149; or you can join from a video-conferencing room or system by dialing in or typing: 67.217.95.2 or inroomlink.goto.com, Meeting ID: 516 506 149. Or dial directly: 516506149@67.217.95.2 or 67.217.95.2##516506149. If you are new to GoToMeeting you can get the app by using this link: https://global.gotomeeting.com/install/516506149.

You can join the second meeting from your computer, tablet, or smartphone using https://global.gotomeeting.com/join/732100405, or you can dial in using your phone, United States: +1 (646) 749-3122 and Access Code: 732-100-405; or you can join from a video-conferencing room or system by dialing in or type: 67.217.95.2 or inroomlink.goto.com, Meeting ID: 732 100 405. Or dial directly: 732100405@67.217.95.2 or 67.217.95.2##732100405. If you are new to GoToMeeting you can get the app by using this link: https://global.gotomeeting.com/install/732100405.

Authority: 5 U.S.C. Appendix 5; 20 U.S.C. 1400 et seq.

Tara Sweeney,
Assistant Secretary—Indian Affairs.

[FR Doc. 2020-16272 Filed 7-27-20; 8:45 am]

BILLING CODE 4337-15-P